DEPARTMENT OF ENERGY

Federal Energy Regulatory Commission

[Docket No. CP11-56-000]

Texas Eastern Transmission, LP, Algonquin Gas Transmission, LLC; Notice of Availability of the Final Environmental Impact Statement for the Proposed New Jersey-New York Expansion Project

The staff of the Federal Energy Regulatory Commission (FERC or Commission) has prepared a final environmental impact statement (EIS) for the New Jersey-New York Expansion Project (NJ-NY Project or Project), proposed by Texas Eastern Transmission, LP (Texas Eastern) and Algonquin Gas Transmission, LLC (Algonquin), both Spectra Energy Corporation natural gas pipeline companies, in the above-referenced docket. Texas Eastern and Algonquin request authorization to expand their natural gas pipeline systems in New Jersey, New York, and Connecticut, to deliver up to 800,000 dekatherms per day of natural gas from multiple receipt points on the Texas Eastern and Algonquin pipeline systems to new delivery points in New Jersey and New York.

The final EIS assesses the potential environmental effects of the construction and operation of the NJ-NY Project in accordance with the requirements of the National Environmental Policy Act (NEPA). The FERC staff concludes that approval of the proposed Project would have some adverse environmental impact; however, these impacts would be reduced to less-than-significant levels with the implementation of Texas Eastern's and Algonquin's proposed mitigation and the additional measures we recommend in the EIS.

The U.S. Environmental Protection Agency (EPA), U.S. Department of Transportation, U.S. Army Corps of Engineers, New York City Mayor's Office, and New York City Department of Environmental Protection participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision for the project.

The final EIS addresses the potential environmental effects of the following project facilities:

• Construction and operation of approximately 15.2 miles of new 30-inch-diameter pipeline and 4.8 miles of 42-inch-diameter pipeline;

• Abandonment of 8.95 miles of existing 12-, 20-, and 24-inch-diameter pipeline;

• Installation of seven new metering and regulating (M&R) stations;

• Modifications to four existing compressor stations and one existing M&R station; and

• Modifications and installations of associated valves and piping.

The FERC staff mailed copies of the EIS to federal, state, and local government representatives and agencies; elected officials; environmental and public interest groups; Native American tribes; local newspapers and libraries in the Project area; intervenors to the FERC's proceeding; and potentially affected landowners and other interested individuals and groups. Paper copy versions of the EIS were mailed to those specifically requesting them; all others received a CD version. In addition, the EIS is available for public viewing on the FERC's Web site (www.ferc.gov) using the eLibrary link. A limited number of copies are available for distribution and public inspection at: Federal Energy Regulatory Commission, Public Reference Room, 888 First Street NE., Room 2A, Washington, DC 20426. (202) 502-8371.

In accordance with the Council on Environmental Quality's (CEQ) regulations implementing NEPA, no agency decision on a proposed action may be made until 30 days after the EPA publishes a notice of availability of the final EIS in the Federal Register. However, the CEQ regulations provide an exception to this rule when an agency decision is subject to a formal internal appeal process that allows other agencies or the public to make their views known. In such cases, the agency decision may be made at the same time the notice of the final EIS is published, allowing both periods to run concurrently. The Commission decision for this proposed action is subject to a 30-day rehearing period.

Questions

Additional information about the Project is available from the Commission's Office of External Affairs, at (866) 208-FERC, or on the FERC Web site (www.ferc.gov) using the eLibrary link. Click on the eLibrary link, click on “General Search,” and enter the docket number excluding the last three digits in the Docket Number field (i.e., CP11-56). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: March 16, 2012.
Kimberly D. Bose,
Secretary.

[FR Doc. 2012-7149 Filed 3-23-12; 8:45 am]

BILLING CODE 6717-01-P